DEPARTMENT OF HEALTH AND HUMAN SERVICES

Centers for Disease Control and Prevention

Advisory Committee to the Director (ACD), Centers for Disease Control and Prevention—National Biosurveillance Advisory Sbcommittee (NBAS)

In accordance with section 10(a)(2) of the Federal Advisory Committee Act (Pub. L. 92-463), the Centers for Disease Control and Prevention (CDC) announces the following meeting of aforementioned subcommittee:

Time and Date: 8:30 a.m.-11:30 a.m., March 21, 2011.

Place: Emory Conference Center Hotel, 1615 Clifton Road, NE., Atlanta, Georgia 30329, Telephone: (404) 712-6000.

Status: Open to the public, limited only by the space available. The meeting room accommodates approximately 75 people. The public is welcome to participate during the public comment periods. The public comment period is tentatively scheduled for 11 a.m.-11:15 a.m.

Purpose: As a subcommittee to the CDC's Advisory Committee to the Director (ACD), the NBAS will provide counsel to the CDC and the Federal government through the ACD regarding a broad range of human health surveillance issues arising from the development and implementation of a roadmap for the human health component of a national biosurveillance system.

Matters to be Discussed: Agenda items will include the subcommittee's discussion, deliberation, and vote on the proposed report for enhancing the nation's biosurveillance capability.

The agenda is subject to change as priorities dictate.

Contact Person for More Information: Pamela Diaz, M.D., Designated Federal Officer, ACD, CDC—NBAS, 1600 Clifton Road, NE., M/S E-97, Atlanta, Georgia 30333. Telephone: (404) 498-0476. E-mail: pdiaz@cdc.gov. For security reasons, members of the public interested in attending the meeting should contact Mark Byers, Telephone: (404) 498-0481, E-mail: mbyers@cdc.gov. The deadline for notification of attendance is March 10, 2011.

The Director, Management Analysis and Services Office, has been delegated the authority to sign Federal Register notices pertaining to announcements of meetings and other committee management activities, for both the Centers for Disease Control and Prevention and the Agency for Toxic Substances and Disease Registry.

Dated: February 25, 2011.
Elaine L. Baker,
Director, Management Analysis and Services Office Centers for Disease Control and Prevention.

[FR Doc. 2011-4994 Filed 3-3-11; 8:45 am]

BILLING CODE 4163-18-P